DEPARTMENT OF HEALTH AND HUMAN SERVICES

National Institutes of Health

National Institute of Allergy and Infectious Diseases; Amended Notice of Meeting

Notice is hereby given of a change in the meeting of the AIDS Research Advisory Committee, NIAID, September 14, 2020, 01:00 p.m. to September 14, 2020, 05:00 p.m., National Institutes of Health, Natcher Building, 45 Center Drive, Bethesda, MD, 20892 which was published in the Federal Register on December 27, 2019, 84 FR 71435.

This notice is being amended to change the meeting type from regular in person to a virtual meeting. The URL link to this meeting is: https://videocast.nih.gov/.

The URL link to this committee is: https://www.niaid.nih.gov/about/committees-aids-research. Any member of the public may submit written comments no later than 15 days after the meeting. This meeting is open to the public.

Dated: July 17, 2020.
Miguelina Perez,
Program Analyst, Office of Federal Advisory Committee Policy.

[FR Doc. 2020-15858 Filed 7-21-20; 8:45 am]

BILLING CODE 4140-01-P